DEPARTMENT OF COMMERCE

National Oceanic and Atmospheric Administration

[RTID 0648-XD003]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Erin Markin, Ph.D., (Permit Nos. 25686 and 27027), Shasta McClenahan, Ph.D., (Permit No. 26919), Carrie Hubard (Permit No. 27077), Jennifer Skidmore (Permit Nos. 27225 and 27267), Courtney Smith, Ph.D. (Permit Nos. 24378-01, 27099), and Sara Young (Permit No. 27272); at (301) 427-8401.

SUPPLEMENTARY INFORMATION: Notices were published in the Federal Register on the dates listed below that requests for a permit or permit amendment had been submitted by the below-named applicants. To locate the Federal Register notice that announced our receipt of the application and a complete description of the activities, go to https://www.federalregister.gov and search on the permit number provided in Table 1 below.

Table 1—Issued Permits
Permit No. | RTID | Applicant | Previous Federal Register notice | Issuance date
24378-01 | 0648-XC630 | The University of Alaska Southeast, 1332 Seward Ave, Sitka, AK 99835 (Responsible Party: Jan Straley) | 87 FR 80527, December 30, 2022 | April 28, 2023.
25686 | 0648-XB542 | NMFS Southeast Fisheries Science Center, 75 Virginia Beach, Miami, FL (Responsible Party: Lisa Desfosse, Ph.D.) | 86 FR 59997, October 29, 2021 | April 5, 2023.
26919 | 0648-XC724 | Georgia Department of Natural Resources, 2070 U.S. Highway 278 Southeast, Social Circle, GA 30025 (Responsible Party: Matt Elliott) | 88 FR 7080, February 2, 2023 | April 14, 2023.
27027 | 0648-XC718 | Glacier Bay National Park and Preserve, P.O. Box 140, Gustavus, AK 99826 (Responsible Party: Thomas Schaff) | 88 FR 4975, January 26, 2023 | April 28, 2023.
27077 | 0648-XC750 | WSP Wild Water Productions Limited, St Stephen's Avenue, Bristol, BS1 1YL, United Kingdom (Responsible Party: Joanna Barwick) | 88 FR 8408, February 9, 2023 | April 11, 2023.
27099 | 0648-XC782 | Pacific Whale Foundation (Responsible Party: Jens Curie), 300 Ma'alaea Rd. Ste. 211, Wailuku, Hawaii 96793 | 88 FR 10294, February 17, 2023 | April 28, 2023.
27225 | 0648-XC783 | Sea Research Foundation, Inc. dba Mystic Aquarium, 55 Coogan Boulevard, Mystic, CT 06355 (Responsible Party: Katie Cubina) | 88 FR 10299, February 17, 2023 | April 20, 2023.
27267 | 0648-XC816 | The Maryland Zoo in Baltimore, 1876 Mansion House Drive, Baltimore, MD 21217 (Responsible Party: Ellen Bronson, DVM) | 88 FR 15681, March 14, 2023 | April 28, 2023.
27272 | 0648-XC768 | Stellwagen Bank National Marine Sanctuary, 175 Edward Foster Road, Scituate, MA 02066 (Responsible Party: David Wiley, Ph.D.) | 88 FR 9870, February 15, 2023 | April 20, 2023.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: May 12, 2023.
Julia M. Harrison,
Chief, Permits and Conservation Division, Office of Protected Resources, National Marine Fisheries Service.

[FR Doc. 2023-10561 Filed 5-17-23; 8:45 am]

BILLING CODE 3510-22-P